DEPARTMENT OF LABOR

Employment and Training Administration

[TA-W-65,863]

Watry Industries, Inc., Sheboygan, WI; Notice of Termination of Investigation

Pursuant to Section 221 of the Trade Act of 1974, as amended, an investigation was initiated on April 29, 2009, in response to a petition filed by a Wisconsin State, One-Stop Operator on behalf of workers of Watry Industries, Inc., Sheboygan, Wisconsin.

The petitioner has requested that the petition be withdrawn. Consequently, the investigation has been terminated.

Signed at Washington, DC, this 6th day of May 2009.
Richard Church,
Certifying Officer, Division of Trade Adjustment Assistance.

[FR Doc. E9-13470 Filed 6-8-09; 8:45 am]

BILLING CODE 4510-FN-P